INTERNATIONAL TRADE COMMISSION

[Investigation Nos. 731-TA-1299, 1300, and 1302 (Review)]

Circular Welded Carbon-Quality Steel Pipe From Oman, Pakistan, and the United Arab Emirates; Determinations

On the basis of the record ¹ developed in the subject five-year reviews, the United States International Trade Commission (“Commission”) determines, pursuant to the Tariff Act of 1930 (“the Act”), that revocation of the antidumping duty orders on circular welded carbon-quality steel pipe from Oman, Pakistan, and the United Arab Emirates would be likely to lead to continuation or recurrence of material injury to an industry in the United States within a reasonably foreseeable time.

¹ The record is defined in § 207.2(f) of the Commission's Rules of Practice and Procedure (19 CFR 207.2(f)).

Background

The Commission instituted these reviews on November 1, 2021 (86 FR 60289) and determined on February 4, 2022 that it would conduct full reviews (87 FR 9641, February 22, 2022). Notice of the scheduling of the Commission's reviews and of a public hearing to be held in connection therewith was given by posting copies of the notice in the Office of the Secretary, U.S. International Trade Commission, Washington, DC, and by publishing the notice in the Federal Register on June 21, 2022 (87 FR 36881). Since no party to the investigation requested a hearing, the public hearing in connection with the reviews, originally scheduled for October 13, 2022, was cancelled (87 FR 62890, October 17, 2022).

The Commission made these determinations pursuant to section 751(c) of the Act (19 U.S.C. 1675(c)). It completed and filed its determinations in these reviews on December 16, 2022. The views of the Commission are contained in USITC Publication 5390 (December 2022), entitled Circular Welded Carbon-Quality Steel Pipe from Oman, Pakistan, and the United Arab Emirates (Inv. Nos. 731-TA-1299-1300, and 1302 (Review)).

By order of the Commission.
Issued: December 16, 2022.
Jessica Mullan,
Acting Supervisory Attorney.

[FR Doc. 2022-27880 Filed 12-22-22; 8:45 am]

BILLING CODE 7020-02-P